DEPARTMENT OF THE INTERIOR

Fish and Wildlife Service

Endangered and Threatened Species Permit Applications

ACTION: Notice of receipt of applications.

SUMMARY: The following applicants have applied for a scientific research permit to conduct certain activities with endangered species pursuant to section 10(a)(1)(A) of the Endangered Species Act of 1973, as amended (16 U.S.C. 1531, et seq.).

Permit No. TE-036436

Applicant: Environmental Planning Group, Tucson, Arizona.

Applicant requests authorization to conduct presence/absence surveys for the cactus ferruginous pygmy-owl (Glaucidium brasilianum cactorum) and the southwestern willow flycatcher (Empidonax traillii extimus) within Arizona.

Permit No. TE-36912

Applicant: Tohono O'Odham Nation, Sells, Arizona.

Applicant requests authorization to conduct presence/absence surveys for the cactus ferruginous pygmy-owl (Glaucidium brasilianum cactorum), and the southwestern willow flycatcher (Empidonax traillii extimus) on the Tohono O'Odham Nation in Arizona.

Permit No. TE-37118

Applicant: Scott E. Carroll, Tucson, Arizona.

Applicant requests authorization to conduct presence/absence surveys for the cactus ferruginous pygmy-owl (Glaucidium brasilianum cactorum) in Maricopa, Pinal, Pima, Cochise, Graham, Gila, Greenlee, Santa Cruz, and Yuma Counties, Arizona.

Permit No. TE-37684

Applicant: Jay K. Esler, Tucson, Arizona.

Applicant requests authorization for recovery purposes to conduct presence/absence surveys for the cactus ferruginous pygmy-owl (Glaucidium brasilianum cactorum) in Arizona.

Permit No. TE-10472

Applicant: Geo-Marine, Inc., Newport News, Virginia.

Applicant requests authorization to conduct presence/absence surveys for the black-capped vireo (Vireo atricapillus) and golden-cheeked warbler (Dendroica chrysoparia) in various Texas Counties.

Permit No. TE-37780

Applicant: Northwestern Resources Co., Jewett, Texas.

Applicant requests authorization for research and recovery purposes to conduct presence/absence surveys, conduct activities around the nest habitat area, and relocate nests occurring in active mine areas for the interior least tern (Sterna antillarum athalassos) in Leon, Limestone, and Freestone counties, Texas.

Permit No. TE-37789

Applicant: Helen Yard, Flagstaff, Arizona.

Applicant requests authorization for recovery purposes to conduct presence/absence surveys for the southwestern willow flycatcher (Empidonax traillii extimus) in Arizona, New Mexico, Utah, California, and Nevada.

Permit No. TE-038048

Applicant: Robert H. Perrill, Tucson, Arizona.

Applicant requests authorization for recovery purposes to conduct presence/absence surveys for the cactus ferruginous pygmy-owl (Glaucidium brasilianum cactorum) in Pima County, Arizona.

Permit No. TE-038050

Applicant: Trevor A. Hare, Tucson, Arizona.

Applicant requests authorization for recovery purposes to conduct presence/absence surveys for the cactus ferruginous pygmy-owl (Glaucidium brasilianum cactorum) in Pima, Pinal, Santa Cruz, and Yuma Counties, Arizona.

Permit No.'s TE-035143 and TE-800611

Applicant: James C. Cokendolpher, Lubbock, Texas and SWCA, Inc., Austin, Texas.

Applicants request authorization for recovery purposes to conduct presence/absence surveys for the following Bexar County invertebrates: Helotes mould beetle (Batrisodes venyivi), Robber Baron Cave harvestman (Texella cokendolpheri), Government Canyon cave spider (Neoleptoneta microps), Robber Baron cave spider (Cicurina baronia), Madla's cave spider (Cicurina madla), vesper cave spider (Cicurina vespera),and (Rhadine exilis), (Rhadine infernalis), (Cicurina venii), no common names, in Bexar County, Texas.

Permit No. TE-038052

Applicant: USDA Natural Resources Conservation Center, Tucson, Arizona.

Applicant requests authorization for recovery purposes to conduct presence/absence surveys for the cactus ferruginous pygmy-owl (Glaucidium brasilianum cactorum) in Pima, Santa Cruz, Pinal, Maricopa, Graham, Gila, and Cochise Counties, Arizona.

Permit No. TE-038055

Applicant: University of New Mexico, Museum of Southwestern Biology, Albuquerque, New Mexico.

Applicant requests authorization for research and recovery purposes to collect Rio Grande silvery minnow (Hybognathus amarus) fin clips in Sandoval, Bernalillo, Valencia, and Socorro Counties, New Mexico.

DATES: Written comments on these permit applications must be received on or before March 12, 2001.

ADDRESS: Written data or comments should be submitted to the Chief, Endangered Species Division, Ecological Services, P.O. Box 1306, Albuquerque, New Mexico 87103; Fax (505) 248-6788. Documents will be available for public inspection by written request, by appointment only, during normal business hours (8:00 to 4:30) at the U.S. Fish and Wildlife Service, Albuquerque, New Mexico. Please refer to the respective permit number for each application when submitting comments. All comments received, including names and addresses, will become part of the official administrative record and may be made available to the public.

FOR FURTHER INFORMATION CONTACT: Chief, Endangered Species Division, Albuquerque, New Mexico, at the above address. Documents and other information submitted with these applications are available for review, subject to the requirements of the Privacy Act and Freedom of Information Act, by any party who submits a written request for a copy of such documents within 30 days of the date of publication of this notice, to the address above.

Stephen C. Helfert,
Assistant Regional Director, Ecological Services, Region 2, Albuquerque, New Mexico.

[FR Doc. 01-3344 Filed 2-8-01; 8:45 am]

BILLING CODE 4310-55-P